DEPARTMENT OF THE TREASURY

Submission for OMB Review; Comment Request

May 15, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 26, 2003 to be assured of consideration.

Internal Revenue Service (IRS)

OMB Number: 1545-1828.

Regulation Project Number: REG-131478-02 NPRM and Temporary.

Type of Review: Extension.

Title: Guidance Under Section 1502; Suspension of Losses on Certain Stock Disposition.

Description: The information in § 1.1502-35T(c) is necessary to ensure that a consolidated group does not obtain more than one tax benefit from both the utilization of a loss from the disposition of stock and the utilization of a loss or deduction with respect to another asset that reflects the same economic loss; to allow the taxpayer to make an election under § 1.1502-35T(c)(5) that would benefit the taxpayer; the election in § 1.1502-35T(f) provides taxpayers the choice in the case of a worthless subsidiary to utilize a worthless stock deduction or absorb the subsidiary's losses; and § 1.1502-35T(g)(3) applies to ensure that taxpayers do not circumvent the loss suspension rule of § 1.1502-35T(c) by deconsolidating a subsidiary and then re-importing to the group losses of such subsidiary.

Respondents: Business or other for-profit.

Estimated Number of Respondents/Recordkeepers: 7,475.

Estimated Burden Hours Per Respondent/Recordkeeper: 2 hours.

Frequency of Response: On occasion.

Estimated Total Reporting/Recordkeeping Burden: 15,000 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Mary A. Able,
Departmental Reports Management Officer.

[FR Doc. 03-13160 Filed 5-23-03; 8:45 am]

BILLING CODE 4830-01-P